DEPARTMENT OF THE INTERIOR

Bureau of Indian Affairs

Notice of Intent To Prepare an Environmental Impact Statement for the Proposed Exploration and Drilling of Additional Coalbed Natural Gas and Conventional Gas Wells in the Riverton Dome Field, Wind River Indian Reservation, Fremont County, WY

AGENCY: Bureau of Indian Affairs, Interior.

ACTION: Notice.

SUMMARY: This notice advises the public that the Bureau of Indian Affairs (BIA), in cooperation with the Eastern Shoshone and Northern Arapaho Tribes, Bureau of Land Management (BLM) and U.S. Environmental Protection Agency (EPA), intends to gather information necessary for preparing an Environmental Impact Statement (EIS) for drilling additional coalbed natural gas wells and conventional gas wells in the Riverton Dome Field, Wind River Indian Reservation, Fremont County, Wyoming. The purpose of the proposed action is to meet the Tribes' need to maximize their economic benefit from this trust resource. This notice also announces a public scoping meeting to identify potential issues and alternatives to be considered in the EIS.

DATES: Written comments on the scope of the EIS or implementation of the proposal must arrive by October 28, 2005.

The public scoping meeting will be held October 12, 2005, from 7 p.m. to 9:30 p.m., or until the last public comment is received.

ADDRESSES: You may mail or hand carry written comments to Ramon A. Nation, Deputy Superintendent, Trust Services, Bureau of Indian Affairs, Wind River Agency, P.O. Box 158, Fort Washakie, Wyoming 82514.

The public scoping meeting will be held at the St. Stephens Elementary School Cafeteria, 134 Mission Road, St. Stephens, Wyoming.

FOR FURTHER INFORMATION CONTACT: Ray Nation or Charlie Dillahunty, (307) 332-3718.

SUPPLEMENTARY INFORMATION: The Riverton Dome Coalbed Natural Gas (CBNG) and Conventional Gas Development Project area is located in Township 1S, Range 4E, Sections 13, 14, 23, 24, 25, 26, 35 and 36; Township 2S, Range 5E, Sections 1, 2, 11 and 12; Township 1S, Range 5E, Sections 17, 18, 19, 20, 29, 30, 31, and 32; and Township 2S, Range 5E, Sections 5, 6, 7 and 8, in the southeast corner of the Wind River Indian Reservation. The project area consists of approximately 13,804 acres, of which 12,632 are tribal and 1,172 are non-tribal surface and minerals.

The proposed action consists of drilling up to 336 CBNG and 20 conventional gas wells over the next 10 years, with a life-of-project of 20 to 40 years. Approximately 46 of the CBNG wells and 15 of the conventional wells would be drilled on existing pads. Economic conditions and the evaluation of the drilling results would determine the actual number of wells that would be drilled. In addition, the project would require 9000hp of new compression, and may require up to 88.8 miles of rights-of-way for construction of flow lines, access roads and power lines.

The initial disturbance from construction of well pads and compressor stations and construction within rights-of-way is estimated to be 1,081 acres, or 7.8 percent of the project area. Long-term disturbance after reclamation is anticipated to be 592 acres, or 4.3 percent of the project area. These disturbance values are based on 40-acre spacing. Initial and residual disturbance at 80-acre spacing would be 611 and 329 acres, respectively.

Each CBNG well may initially produce approximately 500 barrels of water per day, which is expected to decline rapidly. The three water disposal options in order of priority are: (1) Evaporation pit water disposal, (2) underground injection well disposal, and (3) surface discharge. The permits for the evaporation pit and deep well disposal of produced water have been approved. A permit application for surface discharge has been filed with, and is being reviewed by the EPA.

The Riverton Dome Field currently contains 55 oil and gas wells and 3 CBNG wells. In addition, the BIA has approved a CBNG Pilot Project, in which up to 20 CBNG wells may be drilled. Some of these wells may be drilled within the proposed project area while the Riverton Dome environmental analysis is being conducted. The drilling program will be monitored by the BIA and BLM to ensure that activities do not adversely affect the environment or prejudice the completion of the environmental analysis.

Public Comment Availability

Comments, including names and addresses of respondents, will be available for public review at the mailing address shown in the ADDRESSES section during regular business hours, 7:30 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses and from individuals identifying themselves as representatives or officials of organizations or businesses will be made available for public inspection in their entirety.

Authority: This notice is published in accordance with section 1503.1 of the Council on Environmental Quality regulations (40 CFR parts 1500 through 1508) implementing the procedural requirements of the National Environmental Policy Act of 1969, as amended (42 U.S.C. 4321 et seq.), and the Department of Interior Manual (516 DM 1-6), and is in the exercise of authority delegated to the Principal Deputy Assistant Secretary—Indian Affairs by part 209 of the Departmental Manual.

Dated: September 15, 2005.
Michael D. Olsen,
Acting Principal Deputy Assistant Secretary—Indian Affairs.

[FR Doc. 05-19329 Filed 9-26-05; 8:45 am]

BILLING CODE 4310-W7-P